DEPARTMENT OF LABOR

Employment and Training Administration

[TA-W-51,330]

Zilog, Incorporated, MOD II, Nampa, ID; Notice of Termination of Investigation

Pursuant to section 221 of the Trade Act of 1974, as amended, an investigation was initiated on March 27, 2003 in response to a worker petition filed by a company official on behalf of workers at Zilog, Inc., Mod II, Nampa, Idaho.

The petitioner has requested that the petition be withdrawn. Consequently, the investigation has been terminated.

Signed at Washington, DC, this 23rd day of April, 2003.
Elliott S. Kushner,
Certifying Officer, Division of Trade Adjustment Assistance.

[FR Doc. 03-11550 Filed 5-8-03; 8:45 am]

BILLING CODE 4510-30-P